DEPARTMENT OF THE INTERIOR

National Park Service

[NPS-WASO-NAGPRA-NPS0034490; PPWOCRADN0-PCU00RP14.R50000]

Notice of Intent To Repatriate Cultural Items: Huguenot Historical Society, New Paltz, NY

AGENCY: National Park Service, Interior.

ACTION: Notice.

SUMMARY: The Huguenot Historical Society, in consultation with the appropriate Indian Tribes or Native Hawaiian organizations, has determined that 36 cultural items listed in this notice meet the definition of unassociated funerary objects and 12 cultural items listed in this notice meet the definition of objects of cultural patrimony. Lineal descendants or representatives of any Indian Tribe or Native Hawaiian organization not identified in this notice that wish to claim these cultural items should submit a written request to the Huguenot Historical Society. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Huguenot Historical Society at the address in this notice by October 17, 2022.

FOR FURTHER INFORMATION CONTACT: Liselle LaFrance, President, Huguenot Historical Society, 88 Huguenot Street, New Paltz, NY 12561, telephone (845) 255-1660, email info@huguenotstreet.org.

SUPPLEMENTARY INFORMATION: Notice is here given in accordance with the Native American Graves Protection and Repatriation Act (NAGPRA), 25 U.S.C. 3005, of the intent to repatriate 48 cultural items under the control of the Huguenot Historical Society in New Paltz, Ulster County, NY, 36 of which meet the definition of unassociated funerary objects and 12 of which meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1999, 2002, 2003, and 2018, 48 cultural items were removed from the grounds of the Huguenot Historical Society in New Paltz, Ulster County, NY. The items were excavated as part of field schools conducted on the grounds of Historic Huguenot Street by the State University of New York at New Paltz from 1999 through 2018. In 2020, the entire field school artifact collection came into the possession of Huguenot Historical Society. Of this collection, 36 of the items are unassociated funerary objects. They are two dog skeletons, 29 pottery fragments, four pieces of corn and nuts, and one Wampum bead. Of this collection, 12 of the items are objects of cultural patrimony. They are 12 corn and bean seeds.

Stockbridge Munsee Community, Wisconsin Tribal Historic Preservation representatives reviewed the collection with Huguenot Historical Society staff in May of 2022. Based on a review of the extant field school notes, the 36 unassociated funerary objects were identified as having been removed from burial contexts. Based on the collectively held traditional food domestication knowledge they contain, which knowledge continues to have ongoing historic importance, the 12 corn and bean seeds were identified as objects of cultural patrimony. According to related Lenape oral tradition, present-day New Paltz lay within Lenape geographic territory. The 1677 Huguenot-Lenape land agreement serves as further, documentary evidence of Lenape history in this location. Today the earlier Lenape are represented by the Delaware Nation, Oklahoma; the Delaware Tribe of Indians; and the Stockbridge Munsee Community, Wisconsin.

Determinations Made by the Historical Huguenot Society

Officials of the Historical Huguenot Society have determined that:

• Pursuant to 25 U.S.C. 3001(3)(B), the 36 cultural items described above are reasonably believed to have been placed with or near individual human remains at the time of death or later as part of the death rite or ceremony and are believed, by a preponderance of the evidence, to have been removed from a specific burial site of a Native American individual.

• Pursuant to 25 U.S.C. 3001(3)(D), the 12 cultural items described above have ongoing historical, traditional, or cultural importance central to the Native American group or culture itself, rather than property owned by an individual.

• Pursuant to 25 U.S.C. 3001(2), there is a relationship of shared group identity that can be reasonably traced between the unassociated funerary objects and objects of cultural patrimony and the Delaware Nation, Oklahoma; Delaware Tribe of Indians; and the Stockbridge Munsee Community, Wisconsin (hereafter referred to as “The Tribes”).

Additional Requestors and Disposition

Lineal descendants or representatives of any Indian Tribe or Native Hawaiian organization not identified in this notice that wish to claim these cultural items should submit a written request with information in support of the claim to Liselle LaFrance, President, Huguenot Historical Society, 88 Huguenot Street, New Paltz, NY 12561, telephone (845) 255-1660, email info@huguenotstreet.org, by October 17, 2022. After that date, if no additional claimants have come forward, transfer of control of the unassociated funerary objects and objects of cultural patrimony to The Tribes may proceed.

The Huguenot Historical Society is responsible for notifying The Tribes that this notice has been published.

Dated: September 1, 2022.
Melanie O'Brien,
Manager, National NAGPRA Program.

[FR Doc. 2022-20056 Filed 9-15-22; 8:45 am]

BILLING CODE 4312-52-P